DEPARTMENT OF HEALTH AND HUMAN SERVICES

Centers for Disease Control And Prevention

[60Day-01-05]

Proposed Data Collections Submitted for Public Comment and Recommendations

In compliance with the requirement of section 3506(c)(2)(A) of the Paperwork reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Validation of Self-Reported Arthritis Case Definitions in a Managed Care Setting—New—National Center for Chronic Disease Prevention and Health Promotion (NCCDPHP), Centers for Disease Control and Prevention (CDC). It is difficult to estimate the burden of arthritis on the American public because many patients with arthritis do not seek treatment from a health care provider for the condition. The Behavioral Risk Factor Surveillance System (BRFSS) is an ongoing telephone survey that is being used by individual states and the CDC to measure the burden of arthritis. The BRFSS collects a wide variety of self-reported health information, including 6 questions on arthritis. A BRFSS case of arthritis is defined as any person who reports chronic joint symptoms or recalls a diagnosis of arthritis by a health care provider. However, the BRFSS case definition has not been validated, meaning it is unclear if patients who report arthritis symptoms or a diagnosis of arthritis truly have arthritis based on a clinical evaluation by a health care provider. It is also not known if persons who deny chronic joint symptoms and do not recall a diagnosis of arthritis are free of the condition. It is essential to know the validity of the BRFSS case definition because this survey is currently being used to estimate the burden of arthritis on the population.

To assess whether the BRFSS case definition of arthritis is valid, patients aged 45 and older who are enrolled in the Fallon Clinic, (a health maintenance organization in central and eastern Massachusetts), and have an upcoming annual physical examination with a primary care physician will be identified through the computerized appointment system. A letter will be sent to 2,100 patients aged 45 to 64 and 2,900 patients aged 65 and older two weeks prior to their scheduled visit informing them of this study and that a research assistant will be calling to conduct a 10 minute interview in the next few days. The telephone survey will identify patients in each age group (aged 45 to 64 and aged 65 and older), who fall into the four following categories: (1) Chronic joint symptoms without a diagnosis of arthritis from a health care provider; (2) a diagnosis of arthritis by a health care provider without chronic joint symptoms; (3) both chronic joint symptoms and a diagnosis of arthritis by a health care provider; and (4) no chronic joint symptoms and no diagnosis of arthritis by a health care provider. A standardized history and physical examination will be performed on at least 50 persons in the two age groups who fall in the 4 categories described above. Those patients who complete the examination will receive a $20.00 gift certificate. Results of this clinical evaluation will be compared to the telephone survey responses and also to data derived from ambulatory encounters to assess the validity of the arthritis case definition. There are no cost to respondents.

Respondents | Number of responndents | Responses per respondents | Average burden (in hours) | Total burden (in hours)
Patients—phone survey | 3,000 | 1 | 10/60 | 500
Patients—physical exam | 500 | 1 | 30/60 | 250
Total |  |  |  | 750

Dated: November 27, 2000.
Nancy Cheal,
Acting Associate Director for Policy, Planning, and Evaluation, Centers for Disease Control and Prevention.

[FR Doc. 00-30651 Filed 11-30-00; 8:45 am]

BILLING CODE 4163-18-P